DEPARTMENT OF TRANSPORTATION

Federal Railroad Administration

[Docket No. FRA-2016-0002-N-19]

Agency Request for Emergency Processing of Collection of Information by the Office of Management and Budget; Railworthiness Directive for Certain Railroad Tank Cars Equipped With Bottom Outlet Valve Assembly and Constructed by American Railcar Industries and ACF Industries

AGENCY: Federal Railroad Administration (FRA), Department of Transportation (DOT).

ACTION: Notice of Agency request for OMB emergency information collection processing and request for comments.

SUMMARY: FRA hereby gives notice it is submitting the following Information Collection request (ICR) to the Office of Management and Budget (OMB) for Emergency processing under the Paperwork Reduction Act of 1995 (PRA) and its implementing regulations. FRA requests that OMB authorize the proposed collection of information identified below on October 18, 2016, for a period of 180 days.

FOR FURTHER INFORMATION CONTACT: A copy of this individual ICR, with applicable supporting documentation, may be obtained by calling FRA's Clearance Officers: Robert Brogan (tel. (202) 493-6292) or Kimberly Toone (tel. (202) 493-6132) (these numbers are not toll-free), or by contacting Mr. Brogan via facsimile at (202) 493-6216 or Ms. Toone via facsimile at (202) 493-6497, or via email by contacting Mr. Brogan at Robert.Brogan@dot.gov; or by contacting Ms. Toone at Kim.Toone@dot.gov. Comments regarding these information collection requirements should include the title and OMB control number listed below and should be sent directly to the Office of Information and Regulatory Affairs, Office of Management and Budget, 725 Seventeenth Street NW., Washington, DC, 20503, Attention: FRA Desk Officer. Comments may also be sent via email to OMB at oira_submissions@omb.eop.gov.

Title: Railworthiness Directive for Certain Railroad Tank Cars Equipped with Bottom Outlet Valve Assembly and Constructed by American Railcar Industries and ACF Industries

OMB Control Number: 2130-NEW.

Form Number(s): N/A.

Affected Public: Businesses (Tank Car Owners).

Frequency of Submission: One-time; on occasion.

Respondent Universe: 100 Tank Car Owners.

Reporting Burden:

Section | Respondent universe | Total annual responses | Average time per response | Total annual burden hours
Identify tank cars covered by the Directive for Certain Railroad Tank Cars Equipped with Bottom Outlet Valve Assembly and Constructed by American Railcar Industries and ACF Industries (14,800 cars) | 20 Tank Car Owners (100 Lessees/Sub-Lessees) | 20 ID Reports | 4 hours | 80
Visual Inspection of Sump Weld Area of All Tank Cars Identified under this Directive | 100 Shippers | 14,000 inspections/records | 10 min | 2,333
Inspect and Test Sump and BOV Skid Groove as Stipulated in Directive and Maintain Record Results | 20 Tank Car Owners (100 Lessees/Sub-Lessees) | 14,000 records | 2 hours | 28,000
Train and Qualify Non-Destructive Test Technicians on NDT Procedures and Record Qualification (⅓ of the 100 tank car mechanics) | 10 Tank Car Facility Operators | 33 trained and tested mechanics | 2 hours | 66
Tank Car Owner Notification to All Parties under Contract to Car Owner, including Lessees and/or sub-Lessees, using tank cars subject to the Terms of this Directive | 20 Tank Car Owners (100 Lessees/Sub-Lessees) | 100 notices | 2 hours | 200
Report of Inspection , Test, and Repair Information stipulated in paragraph 2(g) of Directive to FRA | 20 Tank Car Owners (100 Lessees/Sub-Lessees) | 14,000 reports | 20 min. per car/report. | 4,667
Repairs: 15% of Relevant Tank Fleet of 14,000 cars— Record and Report of Repairs to Tank Car Owners | 10 Tank Car Facility Operators | 2,100 car reports/records | 16 hours | 33,600
Tank Car Facility Request to Tank Car Owner for Written Permission and Approval of Qualification and Maintenance Program It Will Use Consistent with Appendices D, R, and W of the Tank Car Manual and 49 CFR 180.513 Prior to Initiating Any Repairs | 10 Tank Car Facility Operators | 20 requests + 20 written permissions | 10 min. + 10 min | 7
Tank Car Facility Report of All Work Performed to Tank Car Owner | 10 Tank Car Facility Operators | Burden Included Directly Above | N/A | N/A

Total Estimated Responses: 44,293.

Total Estimated Annual Burden: 68,953 hours.

Status: Emergency Review.

Description:

On September 30, 2016, FRA issued a Railworthiness Directive (Directive) to all owners of DOT specification 111 general purpose tank cars, which can be found on FRA's Web site at http://www.fra.dot.gov/eLib/details/L18383. FRA issued the Directive based on its finding that as a result of non-conforming welding practices, DOT-111 tank cars built by American Railcar Industries, Inc. (ARI) and ACF Industries, LLC (ACF) between 2009 and 2015 to the ARI and ACF 300 stub sill design and equipped with a two-piece cast sump and bottom outlet valve (BOV) skid may be in an unsafe operating condition and could result in the release of hazardous materials. As a result of the non-conforming welding practices, these cars may have substantial weld defects at the sump and BOV skid groove attachment welds, potentially affecting each tank's ability to retain its contents during transportation. The Directive requires owners to: (1) Identify tank cars in their fleet covered by this Directive; and (2) ensure appropriate inspection and testing of each tank car's sump and BOV skid groove attachment welds to ensure no flaw exists which could result in the loss of tank integrity.

As provided under 5 CFR 1320.13, Emergency Processing, DOT is requesting emergency processing for this new collection of information as specified in the PRA and its implementing regulations. DOT cannot reasonably comply with normal clearance procedures because the use of normal clearance procedures is reasonably likely to disrupt the collection of information. Further, in light of recent tank car accidents/incidents carrying crude oil, FRA believes safety is an overriding issue. The Directive took effect upon issuance. FRA cannot wait the normal 90 days of public comment. Under the Directive, tank car owners must take immediate action to identify tank cars in their fleet subject to the Directive. Therefore, FRA is requesting OMB approval of this collection of information 7 days after publication of this Notice in the Federal Register. Upon OMB approval of its Emergency clearance request, FRA will follow the normal clearance procedures for the information collection associated with this Directive.

Under 44 U.S.C. 3507(a) and 5 CFR 1320.5(b), 1320.8(b)(3)(vi), FRA informs all interested parties it may not conduct or sponsor, and a respondent is not required to respond to, a collection of information unless it displays a currently valid OMB control number.

Authority: 44 U.S.C. 3501-3520.

Issued in Washington, DC, on October 4, 2016.
Amitabha Bose,
Chief Counsel.

[FR Doc. 2016-24429 Filed 10-7-16; 8:45 am]

BILLING CODE 4910-06-P